GENERAL SERVICES ADMINISTRATION

[OMB Control No. 3090-0274; Docket No. 2022-0001; Sequence No. 8]

Submission for OMB Review; Art-in-Architecture Program Center for Fine Arts, GSA Form 7437

AGENCY: Public Buildings Service, General Services Administration (GSA).

ACTION: Notice of request for comments regarding an extension to an existing OMB clearance.

SUMMARY: Under the provisions of the Paperwork Reduction Act, the Regulatory Secretariat Division will be submitting to the Office of Management and Budget (OMB) a request to review and approve an extension of an information collection requirement regarding the Art-in Architecture (AIA) Program Center for Fine Arts, GSA Form 7437.

DATES: Submit comments on or before August 18, 2022.

FOR FURTHER INFORMATION CONTACT: Ms. Jennifer Gibson, Office of the Chief Architect, Center for Fine Arts (PCAC), 1800 F Street NW, Room 3100 PCAC, Washington, DC 20405, at telephone 202-501-0930 or via email at jennifer.gibson@gsa.gov.

ADDRESSES: Written comments and recommendations for this information collection should be sent within 30 days of publication of this notice to www.reginfo.gov/public/do/PRAMain. Find this particular information collection by selecting “Currently under Review—Open for Public Comments” or by using the search function.

SUPPLEMENTARY INFORMATION:

A. Purpose

The AIA Program actively seeks to commission works from the full spectrum of American artists and strives to promote new media and inventive solutions for public art. The GSA Form 7437, Art in Architecture Program National Artist Registry, will be used to collect information from artists across the country to participate and to be considered for commissions.

The AIA Program is the result of a policy decision made in January 1963 by GSA Administrator Bernard L. Boudin, who served on the Ad Hoc Committee on Federal Office Space in 1961-1962.

The program has been modified over the years, most recently in 2020, to align with Executive Order (E.O.) 13934 issued July 3, 2020, Building and Rebuilding Monuments to American Heroes. As mandated by E.O. 13934, the AIA program prioritized the commissioning of artworks that portray historically significant Americans or events of American historical significance, or that illustrate the ideals upon which the Nation was founded. Priority was to be given to public-facing monuments to former Presidents of the United States, and to individuals and events relating to the discovery of America, the founding of the United States, and the abolition of slavery. Such works of art were to be designed to be appreciated by the general public and by those who use and interact with Federal buildings. When an artwork commissioned by GSA was meant to depict a historically significant American, the artwork was required to be a lifelike or realistic representation of that person, not an abstract or modernist representation. The AIA program has been modified in 2022 to align with E.O. 14029, Revocation of Certain Presidential Actions and Technical Amendment, which revoked E.O. 13934, and to support the goals of E.O. 13895, Advancing Racial Equity and Support for Underserved Communities Through the Federal Government.

With the implementation of the 2022 policy, the AIA program actively seeks to commission works from the full spectrum of American artists and strives to promote new media and inventive solutions for public art. In support of the AIA program's goal to commission the most talented contemporary American artists to create works for the nation's important new civic buildings, it is necessary to identify those artists. The National Artist Registry (Registry) offers the opportunity for artists across the country to participate and to be considered for commissions.

B. Annual Reporting Burden

Respondents: 300.

Responses per Respondent: 1.

Total Responses: 300.

Hours per Response: .25.

Total Burden Hours: 75.

C. Public Comments

A 60-day notice published in the Federal Register as part of final rule FMR 2021-02, published at 87 FR 5711 on February 2, 2022. There were three comments received on the PRA portion of the rule.

Discussion and Analysis

Two comments offered no specific suggestions. One comment provided detailed and specific suggestions and recommendations that were primarily outside of the mission of the Art in Architecture program, and in a number of instances, duplicate work already being done by the National Endowment for the Arts. In addition, the comments were operational and are either already in place or will be addressed as part of the management of the Art in Architecture program. For example, the Registry form can now be submitted directly online via the AiA website, and the site includes information on the selection process and project timeframes.

Obtaining Copies of Proposals: Requesters may obtain a copy of the information collection documents from the GSA Regulatory Secretariat Division by calling 202-501-4755 or emailing GSARegSec@gsa.gov. Please cite OMB Control No. 3090-0274, Art-in Architecture Program Historic Buildings and the Arts, GSA Form 7437.

Beth Anne Killoran,
Deputy Chief Information Officer.

[FR Doc. 2022-15361 Filed 7-18-22; 8:45 am]

BILLING CODE 6820-34-P